DEPARTMENT OF AGRICULTURE

Forest Service

Information Collection; Federal and Non-Federal Financial Assistance Instruments

AGENCY: Forest Service, USDA.

ACTION: Notice, request for comment.

SUMMARY: In accordance with the Paperwork Reduction Act of 1995, the Forest Service is seeking comments from all interested individuals and organizations on the new information collection, Federal and Non-Federal Financial Assistance Instruments.

DATES: Comments must be received in writing on or before October 29, 2007 to be assured of consideration. Comments received after that date will be considered to the extent practicable.

ADDRESSES: Comments concerning this notice should be addressed to Director, Acquisition Management, Forest Service, U.S. Department of Agriculture, Attention: Chris Coppenbarger, 1400 Independence Ave., SW., Mailstop 1138, Washington, DC 20250-1138.

Comments also may be submitted via facsimile to 703-605-5100 or by e-mail to: ccoppenbarger@fs.fed.us.

The public may inspect comments received at Forest Service, U.S. Department of Agriculture, 1621 N. Kent Street, RPE 707, Arlington, VA during normal business hours. Visitors are encouraged to call ahead to 703-605-4719 to facilitate entry to the building.

FOR FURTHER INFORMATION CONTACT: Chris Coppenbarger, Acquisition Management, 703-605-4719. Individuals who use TDD may call the Federal Relay Service (FRS) at 1-800-877-8339, 24 hours a day, every day of the year, including holidays.

SUPPLEMENTARY INFORMATION: Title: Federal and Non-Federal Financial Assistance Instruments.

OMB Number: 0596-New.

Type of Request: New.

Abstract: In order to carry out specific Forest Service activities, Congress created several authorities to assist the Agency in carrying out its mission. The Forest Service issues Federal Financial Assistance (FFA) awards (i.e., grants and cooperative agreements), as authorized by the Federal Grants and Cooperative Agreements Act (FGCAA), as well as agreements expressly exempted from FGCAA. In addition, Congress created specific authorizations for acts outside the scope of the FGCAA; as well as appropriations language conveying authority for the Forest Service to enter into relationships that are outside the scope of the FGCAA. The Forest Service implements these authorizations using instruments such as collection agreements; FGCAA exempted agreements; memorandums of understanding; and other agreements (which contain mutual benefits for participating parties). These instruments fall outside the scope of the Federal Acquisition Regulations and often require financial plans and statements of work. To create, develop, and administer these funded and non-funded agreements, Forest Service employees collect information from cooperating parties from the pre-award to the closeout stage via telephone calls, e-mails, postal mail, and person-to-person meetings. Respondents usually have multiple options for responding, including forms, non-forms, electronically, face-to-face, over the telephone, and over the Internet. The scope of information collected varies, but typically includes project type, project scope, financial plan, statement of work, and cooperator contact/business information.

The information is collected from non-profit and for-profit institutions; institutions of higher education; state, local, and Native American tribal governments; individuals; foreign governments; and organizations.

Without the collected information, the Forest Service would not be able to create, develop, and administer these funded and non-funded agreements. The Agency would be unable to develop/monitor projects, make or receive payments, or identify financial and accounting errors.

The following forms are associated with this information collection:

FS-1500-NEW1: Cooperative Fire Protection Agreement.

FS-1500-NEW2: Cooperative Law Enforcement Agreement.

FS-1500-NEW3: Cooperative Forest Road Agreement.

FS-1500-NEW4: Challenge Cost Share Agreement.

FS-1500-NEW5: Collection Agreement.

FS-1500-NEW6: Cost-Reimbursable Agreement.

FS-1500-NEW7: Cooperative Research and Development Agreement.

FS-1500-NEW8: Joint Venture Agreement.

FS-1500-NEW9: Memorandum of Understanding.

FS-1500-NEW10: Participating Agreement.

FS-1500-NEW11: FSH 1509.11, Chapter 60—Other Agreements.

FS-1500-NEW12: Cooperative Law Enforcement Annual Operating & Financial Plan.

FS-1500-NEW13: Collection Agreement Financial Plan.

FS-1500-NEW14: Modification Form.

FS-1500-NEW15: Agreement Cover Page.

SF-424: Application for Federal Assistance.

AD-1047: Certification Regarding Department Suspension.

AD-1048: Certification Regarding Debarment, Suspension, Ineligibility and Voluntary Exclusion—Lower Tier Covered Transactions.

AD-1049: Certificate Regarding Drug Free Workplace Requirements Alternative 1.

AD-1050: Certificate Regarding Drug Free Workplace Requirements Alternative 2.

AD-1052: Certificate Regarding Drug Free Workplace Requirements—State and State Agencies.

SF-269: Financial Status Report (Long Form).

SF-269a: Financial Status Report.

SF-270: Request for Advance or Reimbursement.

SF-272: Federal Cash Transaction Report.

SF-272a: Federal Cash Transaction Report (continuation).

SF-424a: Budget Information Non-Construction Programs.

SF-424b: Assurance—Non-Construction Programs.

SF-25a: Payment Bonds.

Estimate of Annual Burden: .25 to 4 hours annually per response.

Type of Respondents: Non-profit and for-profit institutions; institutions of higher education; state, local, and Native American tribal governments; individuals; foreign governments; and organizations.

Estimated Annual Number of Respondents: 14,489.

Estimated Annual Number of Responses per Respondent: 1-4.

Estimated Total Annual Burden on Respondents: 30,855 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: August 22, 2007.
Hank Kashdan,
Deputy Chief, Business Operations.

[FR Doc. E7-17040 Filed 8-28-07; 8:45 am]

BILLING CODE 3410-11-P